DEPARTMENT OF LABOR

Occupational Safety and Health Administration

[V-02-1]

Application for a Permanent Variance From American Boiler and Chimney Co. and Oak Park Chimney Corp.; Notice of Correction and Extension of Comment Period

AGENCY: Occupational Safety and Health Administration, Department of Labor.

ACTION: Notice of correction and of an extension of the period for submitting comments and hearing requests.

SUMMARY: On May 23, 2002, the Occupational Safety and Health Administration (e.g., “OSHA” or “the Agency”) published in the Federal Register a notice of an application for a permanent variance submitted by the American Boiler and Chimney Co. and Oak Park Chimney Corp. (67 FR 36263). Today, OSHA is correcting information that it published in that notice under the sections for addresses and further information. In addition, the Agency is extending the period for submitting comments and hearing requests by 30 days to allow interested parties an opportunity to resubmit their comments and hearing requests, as well as to send additional comments or to submit an initial hearing request if they wish to do so.

DATES: Interested parties must submit their written comments and hearing requests by August 9, 2002.

ADDRESSES: You may submit three copies of your written comments to the OSHA Docket Office, Docket No. V-02-01, Technical Data Center, Room N-2625, U.S. Department of Labor, 200 Constitution Ave., NW., Washington, DC 20210; telephone (202) 693-2350. If your written comments are 10 pages or fewer, you may fax them to the OSHA Docket Office at (202) 693-1648. You do not have to send OSHA a hard copy of your faxed comments.

You may submit comments electronically through OSHA's Homepage at http://ecomments.osha.gov/. Please note that you may not attach materials such as studies or journal articles to your electronic comments. If you wish to include such materials, you must submit three copies of the material to the OSHA Docket Office at the above address. When submitting such material to the OSHA Docket Office, you must clearly identify your electronic comments by name, date, subject, and docket number so that we can attach them to your electronic comments.

Send requests for a hearing to Ms.Veneta E. Chatmon, Office of Information and Consumer Affairs, Room N-3649, OSHA, U. S. Department of Labor, 200 Constitution Avenue, NW., Washington, DC 20210; telephone (202) 693-1999.

FOR FURTHER INFORMATION CONTACT: For information about this notice or the previous Federal Register notice containing the variance application contact Ms. Maryann S. Garrahan, Director, Office of Technical Programs and Coordination Activities, Room N-3655, OSHA, U.S. Department of Labor, 200 Constitution Avenue, NW., Washington, DC 20210; telephone (202) 693-2110; fax (202) 693-1644. You can obtain additional copies of this notice or the previous Federal Register notice containing the variance application from the Office of Publications, Room N-3101, OSHA, U. S. Department of Labor, 200 Constitution Avenue, NW., Washington DC 20210; telephone (202) 693-1888. For electronic copies of this notice contact OSHA on its Webpage at http://www.osha.gov, and select “Federal Register,” “Date of Publication,” and then “2002.”

SUPPLEMENTARY INFORMATION: On May 23, 2002, OSHA published in the Federal Register a notice of an application for a permanent variance submitted by the American Boiler and Chimney Co. and Oak Park Chimney Corp. (67 FR 36263). That notice contained erroneous information regarding the docket number, the room number for sending comments, the number of copies required, the fax number for sending comments, and the name of the individual to contact for further information.

This notice provides the correct information in the sections titled ADDRESSES and FOR FURTHER INFORMATION. In addition, the Agency is extending the period for submitting comments and hearing requests by 30 days to allow interested parties an opportunity to resubmit their comments and hearing requests, as well as to send additional comments or to submit a hearing request if they wish to do so.

Authority and Signature

John L. Henshaw, Assistant Secretary of Labor for Occupational Safety and Health, U.S. Department of Labor, 200 Constitution Ave., NW., Washington, DC directed the preparation of this notice under the authority specified by Section 6(d) of the Occupational Safety and Health Act of 1970 (29 U.S.C. 655), Secretary of Labor's Order No. 3-2000 (65 FR 50017), and 29 CFR part 1905.

Signed at Washington, DC on July 1, 2002.
John L. Henshaw,
Assistant Secretary of Labor.

[FR Doc. 02-17321 Filed 7-9-02; 8:45 am]

BILLING CODE 4510-26-P